DEPARTMENT OF THE INTERIOR

National Park Service

Notice of Availability for the Record of Decision on the Final Environmental Impact Statement for the Stream Management Plan, Herbert Hoover National Historic Site, West Branch, IA

AGENCY: National Park Service, Department of the Interior.

SUMMARY: Pursuant to section 102(2)(C) of the National Environmental Policy Act of 1969, the National Park Service (NPS) announces the availability of the Record of Decision (ROD) on the final Environmental Impact Statement (EIS) for the Stream Management Plan, Herbert Hoover National Historic Site (Site), West Branch, Iowa. The Midwest Regional Director approved the ROD for this final EIS on August 1, 2006. Specifically, the Site will adopt and implement actions described under Alternative E, the preferred alternative, in the final EIS. Under the selected action, the primary strategy entails the restoration of the function of the stream corridor and a floodwater detention area in the upstream portion of the Park.

The EIS considered and evaluated five alternatives to the selected action. A full range of foreseeable environmental consequences was assessed. The overriding concern expressed by the Site and the public during the development of this action was the protection of fundamental resources and values of the Site. Alternative E—Provide 50-Year Flood Protection—is the selected alternative since it best meets the objectives of the Site. The preferred alternative will not result in the impairment of resources and values.

The ROD includes a statement of the decision made, synopses of other alternatives considered, the basis for the decision, the rationale for why the selected action is the environmentally preferred alternative, a finding of no impairment of Site resources and values, and an overview of public involvement in the decisionmaking process.

FOR FURTHER INFORMATION CONTACT: Superintendent, Stream Management Plan Record of Decision, Herbert Hoover National Historic Site, P.O. Box 607, West Branch, Iowa 52358, or by calling 319-643-2541. Copies of the final EIS and ROD are available upon request from the above address.

Dated: August 1, 2006.
Ernest Quintana,
Regional Director, Midwest Region.

[FR Doc. 06-7715 Filed 9-15-06; 8:45 am]

BILLING CODE 4310-70-M